DEPARTMENT OF AGRICULTURE

Forest Service

Management Direction for the John Muir, Ansel Adams, Dinkey Lakes and Monarch Wilderness; Inyo, Sierra and Sequoia National Forests

AGENCY: Forest Service, USDA.

ACTION: Notice of Intent to prepare a Revised Environmental Impact Statement.

SUMMARY: Notice is hereby given that the USDA, Forest Service will prepare a revised draft environmental impact statement (EIS) to establish management direction for the John Muir, Ansel Adams, Dinkey Lakes and Monarch Wilderness areas. The Sierra and Inyo National Forests administer the John Muir and Ansel Adams Wildernesses; the Sierra National Forest administers the Dinkey Lakes Wilderness; and the Sierra and Sequois National Forests administer the Monarch Wilderness. These Wildernesses are located in Fresno, Inyo, Madera, and Mono, California. The decision to revise the draft EIS was based on the high level of interest and concern apparent from the public comments to the original draft. The proposed action has been more clearly defined, otherwise it remains unchanged from that described in the original NOI published in the August 12, 1992 issue of the Federal Register (57 FR 36061).

FOR FURTHER INFORMATION CONTACT: Direct questions regarding the proposed action and revised EIS to Mary Beth Hennessy, Wilderness Specialist, Inyo National Forest (760) 873-2400; or Teri Drivas, Recreation & Lands Officer, Sierra National Forest, (559) 297-0706.

SUPPLEMENTARY INFORMATION: The Inyo, Sierra, and Sequoia National Forests propose to amend their respective Forest Land and Resource Management Plans (LRMPs) to incorporate new management direction for the John Muir, Ansel Adams, Dinkey Lakes, and Monarch Wilderness areas. The National Environmental Policy Act will guide the planning process with implementation scheduled for summer, 2001. The revised draft EIS address three topics associated with overall forest level management direction for the three wildernesses: (1) Visitor Use; (2) Commercial Services and; (3) Recreational Packstock Management.

The analysis will consider a range of alternatives including no-action, which is the current management direction contained in each national forest's LRMP. The new management direction will be programmatic and would provide direction for the implementation of wilderness area decisions for the next 10 to 15 years. The management changes reflect Forest Service directives, changing social values, agency emphasis on ecosystem sustainability, new information, and research findings.

The draft EIS will be filed with the Environmental Protection Agency (EPA) and is expected to be available for public review by July 2000. The comment period on the draft EIS will be 90 days from the date the EPA publishes the notice of availability in the Federal Register. The final EIS is expected to be completed March 2001.

The Forest Service believes, it is important to give reviewers notice of several court rulings related to public participation in the environmental review process. First, reviewers of a draft EIS must structure their participation in the environmental review of the proposal so that it is meaningful and alerts an agency to the reviewer's position and contentions. Vermont Yankee Nuclear Power GN versus NRDC, 435 U.S. 519, 553 (1978). Also, environmental objections that could have been raised at the draft stage maybe waived or dismissed by the court if not raised until after completion of the final EIS. City of Angoon versus Hodel, 803 F.2d. 1016, 1022 (9th Cir. 1986) and Wisconsin Heritages, Inc. versus Harris, 490 F. Supp. 1334, 1338 (E.D. Wis. 1980). Because of these court rulings, it is very important that those interested in the proposed action participate by the close of the 90-day comment period so that substantive comments and objections are made available to the Forest Service at a time when it can meaningfully be considered and responded to in the final EIS. To be most helpful, comments on the draft EIS should be as specific as possible and may address the adequacy of the statement or the merit of the alternatives discussed. Reviewers may wish to refer to the Council on Environmental Quality Regulations for implementing the procedural provisions of the National Environmental Policy Act at 40 CFR 1503.3 in addressing these points.

In the final EIS, the Forest Service is required to respond to comments and responses received during the comment period that pertain to the environmental consequences discussed in the draft EIS and applicable laws, regulations, and policies considered in making the decision regarding the proposal. Forest Supervisors of the Inyo, Sierra, and Sequoia National Forests are the Responsible Officials. As Responsible Officials they will decide whether to implement the proposal or a different alternative. The Responsible Officials will document the decision and the reasons for the decision in the Record of Decision (ROD). The decision will be subject to Forest Service Appeal Regulations (36 CFR part 217).

Jeffery E. Bailey,
Forest Supervisor, Inyo National Forest.

Alan M. Quan,
Acting Forest Supervisor, Sierra National Forest.
Arthur L. Gaffery,
Forest Supervisor, Sequoia National Forest.

[FR Doc. 00-13797 Filed 6-1-00; 8:45 am]

BILLING CODE 3410-11-M